ENVIRONMENTAL PROTECTION AGENCY

40 CFR Part 751

[EPA-HQ-OPPT-2016-0387; EPA-HQ-OPPT-2016-0231; FRL-9961-66]

RIN 2070-AK11 and RIN 2070-AK07

Trichloroethylene; Regulation of Vapor Degreasing Under TSCA Section 6(a); Methylene Chloride and N-Methylpyrrolidone; Regulation of Certain Uses Under TSCA Section 6(a); Reopening of Comment Periods

AGENCY: Environmental Protection Agency (EPA).

ACTION: Notice; Reopening of comment periods.

SUMMARY: In the Federal Register of January 19, 2017, EPA issued two proposed rules under section 6 of the Toxic Substances Control Act (TSCA). The first action proposed to prohibit the manufacture (including import), processing, and distribution in commerce of trichloroethylene (TCE) for use in vapor degreasing; to prohibit the use of TCE in vapor degreasing; to require manufacturers (including importers), processors, and distributors, except for retailers, of TCE for any use to provide downstream notification of these prohibitions throughout the supply chain; and to require limited recordkeeping. The second action proposed to prohibit the manufacture (including import), processing, and distribution in commerce of methylene chloride and N-methylpyrrolidone (NMP) for consumer and most types of commercial paint and coating removal; to prohibit the use of methylene chloride and NMP in these commercial uses; to require manufacturers (including importers), processors, and distributors, except for retailers, of methylene chloride and NMP for any use to provide downstream notification of these prohibitions throughout the supply chain; and to require recordkeeping. This document reopens and extends the comment periods for each proposed rule for an additional 30 days. Commenters requested additional time to submit written comments for the proposed rules.

DATES: Comments, identified by docket identification (ID) number EPA-HQ-OPPT-2016-0387 and by docket identification (ID) number EPA-HQ-OPPT-2016-0231 must be received on or before May 19, 2017.

ADDRESSES: Follow the detailed instructions provided under ADDRESSES in the Federal Register documents of January 19, 2017, (82 FR 7432) (FRL-9950-08) or (82 FR 7464) (FRL-9958-57).

FOR FURTHER INFORMATION CONTACT:

For technical information contact: Cindy Wheeler, Chemical Control Division (7405M), Office of Pollution Prevention and Toxics, Environmental Protection Agency, 1200 Pennsylvania Ave. NW., Washington, DC 20460-0001; telephone number: 202-566-0484; email address: wheeler.cindy@epa.gov or Ana Corado, Chemical Control Division (7405M), Office of Pollution Prevention and Toxics, Environmental Protection Agency, 1200 Pennsylvania Ave. NW., Washington, DC 20460-0001; telephone number: 202-564-0140; email address: corado.ana@epa.gov.

For general information contact: The TSCA-Hotline, ABVI-Goodwill, 422 South Clinton Ave., Rochester, NY 14620; telephone number: (202) 554-1404; email address: TSCA-Hotline@epa.gov.

SUPPLEMENTARY INFORMATION: This document reopens public comment periods established in the two proposed rules issued in the Federal Register of January 19, 2017 (82 FR 7432) (FRL-9950-08) and (82 FR 7464) (FRL-9958-57). In the first action, EPA proposed a rule under section 6 of the Toxic Substances Control Act (TSCA) to prohibit the manufacture (including import), processing, and distribution in commerce of trichloroethylene (TCE) for use in vapor degreasing; to prohibit the use of TCE in vapor degreasing; to require manufacturers (including importers), processors, and distributors, except for retailers, of TCE for any use to provide downstream notification of these prohibitions throughout the supply chain; and to require limited recordkeeping. In the second notice, EPA proposed a rule under section 6 of TSCA to prohibit the manufacture (including import), processing, and distribution in commerce of methylene chloride and N-methylpyrrolidone (NMP) for consumer and most types of commercial paint and coating removal; to prohibit the use of methylene chloride and NMP in these commercial uses; to require manufacturers (including importers), processors, and distributors, except for retailers, of methylene chloride and NMP for any use to provide downstream notification of these prohibitions throughout the supply chain; and to require recordkeeping. EPA is hereby reopening the comment periods for 30 days, to May 19, 2017.

Even though EPA received requests for a lengthier extension of the comment periods, the Agency has concluded that a 30-day reopening of the comment period is sufficient. EPA has already provided for a substantial comment period, now totaling 90 days, for each of the two proposals. EPA has already extended the original 60-day comment period for the proposed rule in TCE in vapor degreasing for 30 days, from March 20, 2017, to April 19, 2017 (82 FR 10732, February 15, 2017). This notice provides the second extension of the comment period for that proposed rule. EPA proposed the rule on methylene chloride and NMP in paint and coating removal with a 90-day comment period, ending on April 19, 2017. Additionally, much of the technical bases for the proposals has been available to the public since the risk assessments for methylene chloride and TCE were published in 2014 and the risk assessment for NMP was published in 2015, and the commenters' expressed need for further extension was general in nature (e.g., the complexity and importance of the subject matter, and prospective commenters' desire to continue conferring and reviewing the technical basis for EPA's proposal). The Agency, therefore, is extending the comment period at its own discretion, in the interest of receiving comprehensive public comment for the benefit of the current rules.

To submit comments, or access a docket, please follow the detailed instructions provided under ADDRESSES in the Federal Register documents of January 19, 2017, (82 FR 7432) (FRL-9950-08) or (82 FR 7464) (FRL-9958-57). If you have questions, consult the technical person listed under FOR FURTHER INFORMATION CONTACT.

List of Subjects in 40 CFR Part 751

Environmental protection, Chemicals, Export notification, Hazardous substances, Import certification, Methylene Chloride, N-Methylpyrrolidone, Trichloroethylene, Recordkeeping.

Dated: April 18, 2017.
Wendy Cleland-Hamnett,
Acting Assistant Administrator for Chemical Safety and Pollution Prevention.

[FR Doc. 2017-08772 Filed 4-28-17; 8:45 am]

BILLING CODE 6560-50-P